EXPORT-IMPORT BANK

[Public Notice 90]

Agency Information Collection Activities: Proposed Collection; Comment Request

AGENCY: Export-Import Bank of the U.S.

ACTION: Notice and request for comments.

SUMMARY: The Export-Import Bank, as part of its continuing effort to reduce paperwork and respondent burden, invites the general public and other Federal Agencies to comment on the proposed information collection, as required by the Paperwork Reduction act of 1995. Our customers will be able to submit this form electronically. The proposed form may be viewed on our Web site at http://www.exim.gov/pub/ins/pdf/EIB%2092-30%20August172006_proposed.pdf.

DATES: Written comments should be received on or before November 13, 2006 to be assured of consideration.

ADDRESSES: Direct all comments and requests for additional information to Arnold Chow, Export-Import Bank of the U.S., 811 Vermont Avenue, NW., Washington, DC 20571, (800) 565-3946, extension 3636. For copies of the proposed form, please direct your request to Solomon Bush, Export-Import Bank of the U.S., 811 Vermont Avenue, NW., Washington, DC 20571, (800) 565-3946, extension 3353.

SUPPLEMENTARY INFORMATION: Titles and Form Numbers: EIB 92-30 Report of premiums payable for financial institutions only.

OMB Number: None.

Type of Review: Regular.

Need and Use: The information requested enables the applicant to provide Ex-Im Bank with the information necessary to record customer utilization and manage prospective insurance liability relative to risk premiums received.

Affected Public: The form affects entities involved in the export of U.S. goods and services.

Estimated Annual Respondents: 150.

Estimated Time Per Respondent: 15 minutes.

Estimated Annual Burden: 450 hours.

Frequency of Reporting or Use: monthly.

Dated: September 7, 2006.
Solomon Bush,
Agency Clearance Officer.

BILLING CODE 6690-01-M

[FR Doc. 06-7615 Filed 9-12-06; 8:45 am]

BILLING CODE 6690-01-C